DEPARTMENT OF JUSTICE

Antitrust Division

Notice Pursuant to the National Cooperative Research and Production Act of 1993—American Academy of Forensic Sciences

Notice is hereby given that, on January 11, 2016, pursuant to Section 6(a) of the National Cooperative Research and Production Act of 1993, 15 U.S.C. 4301 et seq. (“the Act”), the American Academy of Forensic Sciences Standard Board, LLC (“ASB”) has filed written notifications simultaneously with the Attorney General and the Federal Trade Commission disclosing (1) the name and principal place of business of the standards development organization, and (2) the nature and scope of its standards development activities. The notifications were filed for the purpose of extending the Act's provisions limiting the recovery of antitrust plaintiffs to actual damages under specified circumstances.

Pursuant to Section 6(b) of the Act, the name and principal place of business of the standards and development organization is: American Academy of Forensic Sciences Standards Board, LLC, Colorado Springs, CO. The nature and scope of ASB's standards development activities are: activities that develop, review, and approve and issue voluntary consensus standards, technical reports and best practice guidelines in the field of forensic sciences, and to adjudicate appeals relating to the development and administration of such standards.

Patricia A. Brink,
Director of Civil Enforcement, Antitrust Division.

[FR Doc. 2016-04100 Filed 2-25-16; 8:45 am]

BILLING CODE P